DEPARTMENT OF THE INTERIOR

National Park Service

[NPS-PWR-PWRO-12262; PPPWGOGAY0 PPMPSAS1Z.YP0000]

Notice of Approval of Record of Decision for Extending F-Line Streetcar Service to Fort Mason Center, Golden Gate National Recreation Area and San Francisco Maritime National Historic Park, City and County of San Francisco, California

AGENCY: National Park Service, Interior.

ACTION: Notice of Record of Decision.

SUMMARY: Pursuant to § 102(2)(C) of the National Environmental Policy Act of 1969 (Pub. L. 91-190, as amended) and the regulations promulgated by the Council on Environmental Quality (40 CFR Part 1505.2), the Department of the Interior, National Park Service, in collaboration with the City and County of San Francisco, the San Francisco Municipal Transportation Agency (SFMTA), the Presidio Trust, and the Federal Transit Administration, has prepared the Record of Decision for the Final Environmental Impact Statement (Final EIS) for extending the F-Line historic streetcar service to Fort Mason Center. The requisite no-action “wait period” was initiated on February 24, 2012, with the Environmental Protection Agency's Federal Register notification of the filing and public release of the Final EIS.

Decision: Golden Gate National Recreation Area and San Francisco Maritime National Historic Park intend to authorize SFMTA to construct, maintain, and operate an extension of the F-Line historic streetcar service onto National Park Service (NPS) property. The actions to be authorized by NPS include: retrofitting of the historic State Belt Railroad tunnel for single track streetcar use; constructing a turnaround terminus at the Fort Mason Center; and installing appurtenant features such as signals, crossings, wires and poles, and new platforms and designated stops. The complete Project elements and resource stewardship strategies are identified and analyzed in the Preferred Alternative (Alternative 2 and Turnaround Option 2A) presented in the Final EIS (available on-line at http://parkplanning.nps.gov/streetcar). The full range of foreseeable environmental consequences was assessed, and appropriate mitigation measures identified. The selected alternative was deemed to be the “environmentally preferred” course of action.

Interested parties desiring to review the Record of Decision may obtain a copy by contacting the General Superintendent, Golden Gate National Recreation Area, Building 201, Fort Mason, San Francisco, CA 94123 or via telephone request at (415) 561-2841.

Dated: February 4, 2013.
Christine S. Lehnertz,
Regional Director, Pacific West Region.

[FR Doc. 2013-11569 Filed 5-14-13; 8:45 am]

BILLING CODE 4312-FF-P